DEPARTMENT OF ENERGY

Federal Energy Regulatory Commission

[Docket No. PR05-21-000]

Energy Transfer Fuel LP; Notice of Petition for Rate Approval

September 23, 2005.

Take notice that on September 8, 2005, Energy Transfer Fuel LP (ET Fuel), filed with the Federal Energy Regulatory Commission an application pursuant to sections 284.123(b)(2) of the Commission's regulations to justify the system-wide rate it proposes to charge for transporting natural gas pursuant to section 311(a)(2) of the Natural Gas Policy Act of 1978. ET Fuel states that it seeks to initiate firm transportation service with a maximum monthly reservation fee of $4.5625 per MMBtu and a usage fee of $0.065 per MMBtu, plus authority to retain from its shippers 1.30 percent of the quantity of gas delivered to ET Fuel for compressor fuel, company use and lost unaccounted for gas.

Any person desiring to participate in this rate proceeding must file a motion to intervene or protest with the Federal Energy Regulatory Commission, 888 First Street, NE., Washington, DC 20426, in accordance with Sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the FERRIS link. Enter the docket number excluding the last three digits I the docket number field to access the document. For Assistant, call (202) 502-8222 or for TTY, (202) 502-8659. Comments, protests and interventions may be filed electronically via the Internet in lieu of paper. The Commission strongly encourages electronic filings. See, 18 CFR 385.2001(1)(iii) and the instructions on the Commission's Web site under the e-Filing link.

Comment Date: 5 p.m. eastern time on October 14, 2005.

Magalie R. Salas,
Secretary.

[FR Doc. E5-5379 Filed 9-30-05; 8:45 am]

BILLING CODE 6717-01-P